DEPARTMENT OF ENERGY

[OE Docket No. PP-399]

Application To Rescind Presidential Permit; Application for Presidential Permit; Montana Alberta Tie Ltd. and MATL LLP

AGENCY: Office of Electricity Delivery and Energy Reliability, DOE.

ACTION: Notice of application.

SUMMARY: Montana Alberta Tie Ltd. (Montana Alberta Tie) and MATL LLP (MATL) filed a joint application to voluntarily transfer the facilities authorized by Presidential Permit No. PP-305, as amended, to MATL. The application requested that the Department of Energy (DOE) rescind the Presidential permit held by Montana Alberta Tie and simultaneously issue a permit to MATL covering the same international transmission facilities.

DATES: Comments or motions to intervene must be submitted on or before June 13, 2014.

ADDRESSES: Comments or motions to intervene should be addressed as follows: Office of Electricity Delivery and Energy Reliability (OE-20), U.S. Department of Energy, 1000 Independence Avenue SW., Washington, DC 20585.

FOR FURTHER INFORMATION CONTACT: Christopher Lawrence (Program Office) at 202-586-5260, or by email to Christopher.Lawrence@hq.doe.gov, or Katherine Konieczny (Program Attorney) at 202-586-0503.

SUPPLEMENTARY INFORMATION: The construction, operation, maintenance, and connection of facilities at the international border of the United States for the transmission of electric energy between the United States and a foreign country is prohibited in the absence of a Presidential permit issued pursuant to Executive Order (EO) 10485, as amended by EO 12038. Existing Presidential permits are not transferable or assignable. However, in the event of a proposed voluntary transfer of facilities, in accordance with DOE regulations at 10 CFR 205.323, the existing permit holder and the transferee are required to file a joint application with DOE that includes a statement of reasons for the transfer.

On April 17, 2014, Montana Alberta Tie and MATL jointly filed an application with DOE requesting, as an alternative to amending the existing Presidential permit, rescission of Presidential Permit No. PP-305, as amended, issued to Montana Alberta Tie and a simultaneous issuance of a Presidential permit to MATL for the same international transmission facilities. The international transmission facilities authorized by Presidential Permit No. PP-305, as amended, include one 230 kilovolt (kV) transmission line running from Great Falls, Montana north to a point at the Canadian border near Cut Bank, Montana.

The rescission and reissuance is being requested for business reasons so that the transmission facilities can be jointly owned and operated by both Montana Alberta Tie and MATL. MATL, which is a U.S. entity organized under the laws of the state of Montana, will own and operate the transmission facilities on the U.S. side the border, and Montana Alberta Tie, which is a Canadian entity, will remain the owner and operator of the portion of the facilities in Canada.

Procedural Matters: Any person may comment on this application by filing such comment at the address provided above. Any person seeking to become a party to this proceeding must file a motion to intervene at the address provided above in accordance with Rule 214 of FERC's Rules of Practice and Procedure (18 CFR 385.214). Two copies of each comment or motion to intervene should be filed with DOE on or before the date listed above.

Additional copies of such motions to intervene also should be filed directly with: Stacy Myers, Senior Legal Counsel, Green Power Transmission, Enbridge Energy Company, Inc., 1100 Louisiana St., Suite 2500, Houston, TX 77002 AND Travis Allen, Senior Regulatory Analyst, Green Power Transmission, Enbridge Energy Company, Inc., 1100 Louisiana St., Suite 2500, Houston, TX 77002.

Before a Presidential permit may be granted or amended, DOE must determine that the proposed action will not adversely impact on the reliability of the U.S. electric power supply system. In addition, DOE must consider the environmental impacts of the proposed action (i.e., granting the Presidential permit or amendment, with any conditions and limitations, or denying the permit) pursuant to the National Environmental Policy Act of 1969. DOE also must obtain the concurrences of the Secretary of State and the Secretary of Defense before taking final action on a Presidential permit application.

Copies of this application will be made available, upon request, for public inspection and copying at the address provided above. In addition, the application may be reviewed or downloaded electronically at http://energy.gov/oe/services/electricity-policy-coordination-and-implementation/international-electricity-regulatio-2. Upon reaching the home page, select “Pending Applications.”

Issued in Washington, DC, on May 8, 2014.
Christopher A. Lawrence,
Electricity Policy Analyst, Office of Electricity Delivery and Energy Reliability.

[FR Doc. 2014-11107 Filed 5-13-14; 8:45 am]

BILLING CODE 6450-01-P